DEPARTMENT OF LABOR

Employee Benefits Security Administration

Advisory Council on Employee Welfare and Pension Benefit Plans; Working Group on Retirement Plan Distributions and Options; Working Group on Communications to Retirement Plan Participants and Working Group on Improving Plan Communications for Health and Welfare Plan Participants; Notice of Meeting

Pursuant to the authority contained in Section 512 of the Employee Retirement Income Security Act of 1974 (ERISA), 29 U.S.C. 1142, a public meeting will be held on November 2, 2005 of the Working Groups assigned by the Advisory Council on Employee Welfare and Pension Benefit Plans to study the issues of (1) Retirement plan distributions, (2) communications to retirement plan participants, and (3) improving plan communications for health and welfare plan participants.

The sessions will take place in Room N S4215 B-C, U.S. Department of Labor, 200 Constitution Avenue NW., Washington, DC 20210. The purpose of the open meeting is for the Working Groups to conclude their report/recommendations for the Secretary of Labor. The meetings will start at 9 a.m., with the Working Group on Retirement Plan Distributions and Options meeting first, followed by the Working Group on Communications to Retirement Plan Participants, and then the Working Group on Improving Plan Communications for Health and Welfare Plan Participants. This will be followed by a combined meeting of the latter two Working Groups.

Organizations or members of the public wishing to submit a written statement pertaining to the topic may do so by submitting 25 copies on or before October 27, 2005 to Larry Good, Executive Secretary, ERISA Advisory Council, U.S. Department of Labor, Suite N-5623, 200 Constitution Avenue, NW., Washington, DC 20210. Statements also may be submitted electronically to good.larry@dol.gov. Statements received on or before October 27, 2005 will be included in the record of the meeting. Individuals or representatives of organizations wishing to address any of the Working Groups should forward their requests to the Executive Secretary or telephone (202) 693-8668. Oral presentations will be limited to 20 minutes, time permitting, but an extended statement may be submitted for the record. Individuals with disabilities who need special accommodations should contact Larry Good by October 27 at the address indicated.

Signed at Washington, DC this 12th day of October, 2005.
Ann L. Combs,
Assistant Secretary, Employee Benefits Security Administration.

[FR Doc. 05-20723 Filed 10-17-05; 8:45 am]

BILLING CODE 4510-29-P